DEPARTMENT OF THE INTERIOR

Bureau of Land Management

[ES-960-1910-BJ-4789] ES-053725, Group No. 35, Missouri

Eastern States: Filing of Plat of Survey

AGENCY: Bureau of Land Management.

ACTION: Notice of Filing of Plat of Survey; Missouri.

SUMMARY: The Bureau of Land Management (BLM) will file the plat of survey of the lands described below in the BLM-Eastern States, Springfield, Virginia, 30 calendar days from the date of publication in the Federal Register.

FOR FURTHER INFORMATION CONTACT: Bureau of Land Management, 7450 Boston Boulevard, Springfield, Virginia 22153. Attn: Cadastral Survey.

SUPPLEMENTARY INFORMATION: This survey was requested by the U.S. Army Corps of Engineers.

The lands we surveyed are:

Fifth Principal Meridian, Missouri

T. 48 N., Rs. 4 and 5 E.

The plat of survey represents the survey of a portion of the Lock and Dam No. 26 acquisition boundary on an island in the Mississippi River in Township 48 North, Range 4 and 5 East, of the Fifth Principal Meridian, in the State of Missouri, and was accepted September 2, 2005. We will place a copy of the plat we described in the open files. It will be made available to the public as a matter of information.

Dated: September 2, 2005.
Stephen D. Douglas,
Chief Cadastral Surveyor.

[FR Doc. 05-17973 Filed 9-9-05; 8:45 am]

BILLING CODE 4310-GJ-P